ADVISORY COUNCIL ON HISTORIC PRESERVATION

Notice of Issuance of the Department of the Army Program Comment for Inter-War Era Historic Housing, Associated Buildings and Structures, and Landscape Features (1919-1940)

AGENCY: Advisory Council on Historic Preservation.

ACTION: Notice of issuance of the Department of the Army Program Comment for Inter-War Era Historic Housing, Associated Buildings and Structures, and Landscape Features (1919-1940).

SUMMARY: The Advisory Council on Historic Preservation has issued a program comment for the U.S. Department of the Army that sets forth the way in which the Army complies with Section 106 of the National Historic Preservation Act for its inventory of Inter-War Era historic housing management actions, including: Maintenance, repair, rehabilitation, renovation, abatement, mothballing, demolition, replacement construction, new construction, lease and conveyance.

DATES: The Program Comment went into effect on September 4, 2020.

ADDRESSES: Address any questions concerning the Program Comment to Rachael Mangum, Office of Federal Agency Programs, Advisory Council on Historic Preservation, 401 F Street NW, Suite 308, Washington, DC 20001.

FOR FURTHER INFORMATION CONTACT: Rachael Mangum, (202) 517-0214, rmangum@achp.gov.

SUPPLEMENTARY INFORMATION: Section 106 of the National Historic Preservation Act, 54 U.S.C. 306108 (Section 106), requires federal agencies to consider the effects of projects they carry out, license, or assist (undertakings) on historic properties and to provide the Advisory Council on Historic Preservation (ACHP) a reasonable opportunity to comment with regard to such undertakings. The ACHP has issued the regulations that set forth the process through which federal agencies comply with these duties. Those regulations are codified under 36 CFR part 800 (Section 106 regulations).

Under Section 800.14(e) of those regulations, agencies can request the ACHP to provide a “program comment” on a particular category of undertakings in lieu of conducting individual reviews of each individual undertaking under such category, as set forth in 36 CFR 800.4 through 800.7. An agency can meet its Section 106 responsibilities with regard to the effects of those undertakings by taking into account an applicable program comment and following the steps set forth in that comment. The U.S. Department of the Army (Army) sought a program comment for its management actions related to its inventory of approximately 3,200 Inter-War Era historic housing units. Actions could include maintenance, repair, rehabilitation, renovation, abatement, mothballing, demolition, replacement construction, new construction, lease and conveyance. These actions present a potential for adverse effects to historic properties.

The ACHP issued the Program Comment for Army Inter-War Era Housing, Associated Buildings and Structures, and Landscape Features (1919-1940) (Program Comment) on September 4, 2020. The Section 106 regulations require that such program comments be published in the Federal Register.

I. Need for the Program Comment

The need for the Program Comment is based on the Army's obligation to provide quality housing to its Soldiers and their families. The Army has approximately 470,000 Active Duty Soldiers with 650,000 family members, 400,000 of which are children. Housing and associated living conditions are critical factors for military family resiliency in the face of the extraordinary challenges and stressors Soldiers and their families must cope with in their daily lives.

There are health and safety risks to military families living in historic housing that result from hazards such as lead-based paint and asbestos commonly found in historic building materials. The Army must also maintain and improve the living conditions that contribute to the quality of life owed to military families who occupy historic housing. The high costs associated with the use of historic building materials and in-kind building materials and specialized craftsman associated with using those materials have proven to be financially limiting factors to the Army's ability to fully implement planned improvements to historic housing.

Also, due to military mission needs, a military family may be required to move every two or three years. The Army attempts to minimize the impact of these moves on families and school-aged children to the extent possible by its efforts to plan many of the thousands of annual moves during the summer months, when schools are not in session. Many, but not all, required maintenance, repairs, and improvements to all Army housing, both historic and non-historic, occur during this short transition in occupancy during the summer months. While extensive prior historic preservation planning and actions to support these moves occur, the Section 106 project-by-project review process under existing installation-level Programmatic Agreements (PAs) contributes to delays in completing historic housing maintenance, repairs, and improvements needed for the transition in occupancy. Those delays directly impact the ability of reassigned military families to move-in and occupy historic housing.

To provide quality housing for military families, the Army must address the health and safety risks from historic building materials, associated costs, compliance process time, and must also implement actions that address and improve the material living conditions of historic housing to ensure Soldiers and their families have the quality of life they deserve.

II. Army Inter-War Era Housing and the Program Comment

The Army has the largest housing mission in the federal government, managing over 100,000 total housing units for Soldiers and their families. Of this total, the Army has approximately 31,000 historic housing units. Over 3,200 of these historic housing units are from the Inter-War Era (1919-1940). The Army's inventory of Inter-War Era historic housing was, in general, constructed following standardized plans developed by the Army Quartermaster Corps, and is subject to frequent and recurring undertakings. The intent of this Program Comment is to address the Army's National Historic Preservation Act (NHPA) compliance requirements by establishing procedures for management of the Army's nation-wide inventory of over 3,200 Inter-War Era housing units that balances historic preservation requirements with the Army's responsibility to provide the thousands of military families who live in this historic housing with the quality of life, health, and safety they require. The Army acknowledges that its Inter-War Era housing units are historic properties for the purposes of the Program Comment. The Program Comment addresses a category of frequent and repetitive undertakings occurring within this large class of similar historic properties. The category of undertakings addressed by the Program Comment is management actions: Maintenance, repair, rehabilitation, renovation, abatement, mothballing, demolition, replacement construction, new construction, lease and conveyance. These actions present a potential for adverse effects to historic properties.

The Program Comment's treatment measures for Army Inter-War Era housing address the effects of Army management actions through extensive historical research, documentation, and recordation of the properties, establishment of preservation planning documents to guide management actions, and the implementation of new procedures and lifecycle analyses. The purpose is to ensure the historic and architectural character of Inter-War Era Housing, associated buildings and structures, and landscape features (Inter-War Era housing) is maintained and any unavoidable adverse effects resulting from management actions are minimized or otherwise mitigated.

Treatment measures in the Section 106 process often address the effects of undertakings on historic properties through documentation and recordation as part of the historic preservation process. The treatment measures include: extensive existing documentation, research to further develop the Army Inter-War Era housing historic context, development and implementation of Design Guidelines for Army Inter-War Era Historic Housing (1919-1940) (Design Guidelines), development and implementation of a Building Materials Catalog for Army Inter-War Era Historic Housing (1919-1940) (Building Materials Catalog), an Army Federal Preservation Officer (FPO) NHPA policy statement for Program Comment implementation, development of public information and use of social media for public educational materials, lifecycle tracking of building materials data, and treatment measure monitoring and reporting. In the case of management actions involving removal and replacement of historic building materials or demolition, the documentation records and preserves information about historic housing. The Program Comment, Design Guidelines, and Building Materials Catalog also identify materials, set criteria, and establish step-by-step procedures for consideration and selection of appropriate building materials.

Over 95 percent of Army Inter-War Era housing is managed under housing privatization partnerships that the Army has entered into with various property management entities. While day-to-day housing operations may occur under these partnerships, the Army remains ultimately responsible for compliance with the NHPA for its inventory of historic housing.

III. Building Materials and Methods for Preservation of Inter-War Era Housing

The Army will implement its management actions to address the interconnected issues of health and safety, costs, process, and the material living conditions of Inter-War Era historic housing using appropriate building materials and methods that will maintain the historic and architectural character of Inter-War Era housing, associated buildings and structures, and landscape features. The Army will implement its management actions using historic building materials, in-kind building materials, and imitative substitute building materials. Historic building materials means building materials that are 50 years old and older. In-kind building materials means new building materials that are identical to historic building materials in all possible respects including their composition, design, color, texture, and other physical and visual properties. The term imitative substitute building materials means modern, industry standard, natural, composite, and synthetic building materials that simulate the appearance of and substitute for more costly historic building materials. These materials do not necessarily meet the Secretary of the Interior's Standards for the Treatment of Historic Properties.

Planning for the selection and use of appropriate building materials on historic housing is critical. Specific overarching planning criteria are established in the Program Comment for the selection of appropriate building materials that consider the need to maintain the historic and architectural character of Inter-War Era housing in a balanced priority with health, safety, and quality of life considerations for military families. To further ensure that proper planning for and use of appropriate building materials occurs, the Army developed two preservation planning documents associated with the Program Comment: The Design Guidelines, and the Building Materials Catalog. These two preservation planning documents are incorporated into the Program Comment as Appendices A and B, respectively. These documents can be accessed at: https://www.denix.osd.mil/army-pchh/home/.

The methods for selection and use of appropriate building materials is set forth in the Program Comment, Design Guidelines, and the Building Materials Catalog. The primary focus of these documents is on preservation of the historic and architectural design integrity of the housing, associated buildings and structures, and landscape features. The Design Guidelines provide specific information regarding Inter-War Era housing architectural styles and identify the overall character-defining features and design elements associated with the specific Inter-War Era architectural styles. The Guidelines also provide methods and approaches to Inter-War Era housing routine maintenance, emergency repairs and disasters, rehabilitation, renovation, new additions, new construction, replacement construction, and improvements to windows and doors, entrances, porches and details, roofs, foundations and walls, interiors, and interior structural systems. The Guidelines also address mothballing and layaway of housing and provide guidelines for demolition; historic designed landscapes and features, historic districts containing Inter-War Era housing, circulation systems and paving patterns, and associated buildings and structures; and actions related to force protection requirements.

The Building Materials Catalog is used in concert with the Design Guidelines. The Building Materials Catalog provides additional specificity on building materials and their use. The Building Materials Catalog establishes the methodology for selecting specific building materials that will maintain the historic and architectural character of the housing, associated buildings and structures, and landscape features. Catalog entries are provided for major components of the house design. Design considerations for each catalog entry are derived from the design fundamentals of scale, mass, proportion, and materials. This provides the guidance for selection of appropriate materials and component designs that factor location, type, size, finish and maintenance into their selection. Focus is on appropriate design, applicable materials, and performance characteristics. Emphasis is placed on retention of the housing design integrity. It is intended that by following the Design Guidelines and the Building Materials Catalog, the management actions implemented under the Program Comment will preserve the historic and architectural character of Inter-War Era housing.

IV. Consultation on the Program Comment

The Army sought participation from the public, State Historic Preservation Officers (SHPOs), Indian tribes, Native Hawaiian Organizations (NHOs), and other interested parties in the Program Comment's development prior to formally submitting its request for a Program Comment to the ACHP. The Army published a Notification of Intent in the Federal Register and issued a nation-wide media release on October 28, 2019, giving the public a 45-day period to submit comments. To host technical and administrative documents, consultation conference information, and status reports on the Program Comment development, the Army also activated a website in October 2019 at https://www.denix.osd.mil/army-pchh/home/. This website will remain active for the 35-year duration of the Program Comment. In September and October 2019, the Army conducted consultation meetings with the National Conference of State Historic Preservation Officers (NCSHPO), the National Association of Tribal Historic Preservation Officers (NATHPO), and the National Trust for Historic Preservation (NTHP). These meetings solicited input to develop a Program Comment that considered the consulting parties' perspectives. In November 2019, the Army provided a briefing to the ACHP membership regarding the Program Comment's purpose, intent, process, and schedule in November 2019.

In October 2019, the Army published an invitation for consultation on its website and invited over 900 individuals representing key stakeholder organizations including SHPOs, Tribal Historic Preservation Offices (THPOs), Indian tribes, and NHOs, to a series of monthly consultation conference calls from November 2019 through June 2020 to provide for the participation by all interested parties and the opportunity to inform all aspects of the Program Comment and related documents. Call topics included Army privatized housing operations, undertaking and property types, treatment measures and effects, housing design guidelines, demolition, properties of particular importance, public education materials, treatment measure monitoring and reporting, and a building materials catalog. Drafts of the Design Guidelines and Building Materials Catalog were provided to consulting parties for review and comment. All comments and Army responses are included in the Army's Administrative Record for the Program Comment provided to the ACHP and available on the Program Comment website.

Major outcomes of this consultation were the development of a treatment measure for the Army to track the lifecycle of select in-kind and imitative substitute building materials on over 300 housing units during the next 35 years; the development of robust demolition procedures, including an opportunity for relevant consulting party and ACHP review of each demolition proposal as well as Army headquarters level decisions for all proposed demolitions; and guidelines specifying that new and replacement construction will be compatible with existing historic housing, and avoid obstructing views out from or in to any historic district(s). A further enhancement during this period of consultation was the removal of National Historic Landmarks (NHLs) from consideration under the Program Comment. Undertakings involving NHLs will continue to be handled on a case-by case basis.

In May 2020, the Army FPO provided a Program Comment update and status report to the ACHP membership. The status report identified consulting party concerns that arose during consultation and discussed how the Army had addressed those concerns.

During this period, the Army FPO also coordinated internally with commands and installation commanders and provided briefings at the Army world-wide Garrison Commander's Conference in November 2019 and at an Army Residential Communities Initiative (RCI) Partner Conference in February 2020.

On July 15, 2020, the Army submitted its formal request for a Program Comment to the ACHP, starting the ACHP's 45-day regulatory clock, which was originally set to end on August 31, 2020. The request included the Army's Section I. Overview of the Program Comment, portions of which are being used in this, and the two companion documents, the Design Guidelines (Appendix A) and the Building Materials Catalog (Appendix B). The full Section I of the Army's submittal to the ACHP is available on the Army's Program Comment website.

Following the Army's formal request, the ACHP carried out its own consultation. The ACHP hosted two consultation meetings with its members on July 22 and 23, 2020 to discuss the draft documents sent with the Army's formal request. Thirteen members or their representatives attended two meetings. The ACHP also conducted calls with SHPOs and NCSHPO on July 27, 28, and 31, 2020, and with Indian tribes and NHOs on July 30 and 31, 2020. Comments provided during the meetings were noted and any additional comments were requested by August 17, 2020.

ACHP created a web page to host the text of the Program Comment and appendices, highlighted it on its News web page and its Twitter and Facebook web pages, and sent a broadcast email announcing the posting of the Program Comment and availability for public review and comment. ACHP sent the email to Senior Policy Officials and Senior Policy Official Representatives (SPOs & SPO Reps), ACHP alumni, Federal Preservation Officers and Federal Preservation Officer Representatives (FPOs & FPO Reps), State Historic Preservation Officers (SHPOs), NTHP, National Preservation Organizations, Preservation Partners, Statewide and Local Preservation Organizations, Native Hawaiian Organizations (NHOs), and Tribal 106 Contacts. The public review period began August 3, 2020 and ended August 17, 2020.

By the close of the comment period, the ACHP received comments from 26 respondents. The primary concerns expressed in the comments focused on (1) objections to including demolition, new construction, transfer, sale and lease in the management actions, as these may result in adverse effects to historic properties; (2) lack of SHPO and Tribal consultation for most actions, including ground disturbing activities based on the Army's assumption that prior disturbance limits the potential for intact archaeological resources; (3) the use of imitative substitute materials and the lack of a hierarchy for its selection only after historic or in-kind materials were considered; (4) insufficient mitigations to offset potential adverse effects; (5) requirements for professional assistance to be provided by Secretary of the Interior (SOI) qualified professionals.

ACHP staff held a conference call with ACHP members on August 17, 2020, to discuss the comments received and to seek any comments or recommendations for revisions to the draft that ACHP members wished to provide. Sixteen ACHP members participated. ACHP staff hosted a follow up consultation meeting August 19, 2020, with NCSHPO and NTHP to discuss specific revisions to address the comments received during the public comment period and those raised during the ACHP member teleconference. ACHP staff conducted a meeting with the Army FPO and Deputy Assistant Secretary of the Army on August 19, 2020, to provide an overview of comments and recommended changes to the Program Comment. To allow additional time for consideration of changes in response to comments received, the ACHP requested and obtained a 4-day extension from the Army on August 20, 2020, to extend the period for ACHP comment until September 4, 2020. Based on this feedback, the ACHP staff and the Army then worked together to revise the draft in the following ways:

1. Sales and transfers were removed from the list of management actions (category of undertakings) covered by the Program Comment;

2. Conveyance was added to the list of management actions covered by the Program Comment. A new process was added in Section 3.2 to clarify that lease and conveyance are limited solely to leasing or otherwise conveying Inter-War Era housing for the purposes of possession, management, and operation as housing and associated ancillary purposes that support housing operations. New definitions for “lease and conveyance,” “associated ancillary purposes that support housing operations,” and “privatized housing” were added to Section 2.3 to explain the unique situation of the existing legal partnerships between the Army and privatized housing partners as part of the Residential Communities Initiative (RCI), that is, the land is leased and ownership of the housing is conveyed but only for the term of the ground lease; no conveyances under this partnership extend beyond the land lease agreement;

3. Revisions to proposals and procedures for demolition in Section 3.2.5 specify that the section of the Program Comment applying to demolition may be removed or amended at any time at the ACHP's discretion, following procedures in Section 8. The use of demolition was limited to housing that is highly deteriorated, and/or vacant for 12 months or longer due to underutilization, and/or where potentially hazardous materials or unsafe conditions are present. The demolition procedures were updated to require that the Building Disposition Report will include analysis on the likelihood for re-utilization as housing in the next five years and the feasibility and costs of long-term layaway and mothballing; analysis on whether the costs to rehabilitate or renovate the housing exceed the combined costs of demolition and new or replacement construction on a per square foot basis; the preparation of the appropriate state/SHPO-specific inventory form; and is sent to appropriate Indian tribes, NHOs, and the ACHP in addition to the SHPO. The requirements for reporting demolition decisions were updated to include that the Army will provide the ACHP a summary of each demolition decision within 30 days of a decision in addition to the Annual Report for the first five years (2021-2025). Reporting on demolition was also extended to every 5 years for the duration of the Program Comment to ensure the ACHP has sufficient information to monitor use of the demolition procedure;

4. The definitions for “new construction” and “replacement construction” were clarified to indicate that these actions can only occur within existing Inter-War Era housing neighborhoods;

5. The procedures for discovery of historic properties and Native American and Native Hawaiian human remains and funerary objects were updated in a major revision to Section 4.2 to address concerns about the lack of an explicit process that will be followed in the event of inadvertent discoveries during ground disturbing activities that may occur during demolition, new and replacement construction, and landscaping;

6. Section 2.2.5 Applicability and Exclusions was amended to specify that the Program Comment does not apply to Inter-War Era housing located at Fort Meade, MD which will remain subject to a Deed of Easement;

7. A new definition was added to Section 2.3 for “professional assistance” that means assistance from an individual who meets the SOI Professional Qualification Standards in the appropriate field (e.g., architectural history, historic architecture, or archeology); and

8. Revisions to the Building Materials Selection Procedure (3.2.2.4) set forth that in-kind building materials will be selected if they are determined to be the appropriate replacement material in accordance to the analysis of performance, costs, short and long-term cost/benefit, and impacts on the ability to fully implement quality of life improvements to the housing. Revisions to the procedure set further limits on the use of vinyl siding by specifying that it will only be selected and used after other replacement building materials are evaluated and determined not to be the appropriate replacement building material.

With the Army's request for a Program Comment that allows a federal agency flexibility in being able to use imitative substitute building materials in the treatment of its historic properties, the ACHP considered whether the decision would set a precedent for other federal agencies. Considering the entirety of the approach presented by the Army, modified based on comments received, the ACHP considers the use of this material to be appropriate for the Army's inventory of Inter-War Ear housing but finds that it may not be suitable for historic properties owned by other federal agencies, and therefore does not set a precedent, based on the following key factors:

1. The Army operates and manages the largest inventory of housing among all federal agencies. The Program Comment would apply to approximately 3,200 Army housing units. With this volume of inventory, the Program Comment assists the Army and its privatized housing partners with the scale and repetitive nature of its management actions to repair and maintain standardized housing by following a standardized process and using standard materials as specified in the Design Guidelines and Building Materials Catalog;

2. The Program Comment assists the Army in addressing the nature of housing occupancy and need for quick turnover of housing for Soldiers and their families. Renovations often occur in a limited window (summer months) between occupancies;

3. Applying standardized management actions keeps these historic properties occupied/in use following their original function, military housing;

4. There is limited public access and enjoyment of these historic properties, located in military housing areas on restricted-access Army installations;

5. The Program Comment will provide greater consistency in the application of NHPA compliance requirements which currently vary by installation and SHPO under the existing PAs for privatized housing that have been in effect for about 15 years; and

6. The Army has committed to various treatment measures appropriate to mitigate the adverse effects of using imitative substitute building materials, such as lifecycle tracking analysis, which will be publicly available and provide data now lacking in this field. Other agencies considering a similar approach to the use of imitative substitute materials would need to present their own mitigations appropriate to minimize those effects.

The Army Program Comment was submitted to the ACHP membership for a vote on August 28, 2020. In a vote that closed on September 4, 2020, the ACHP members voted in favor of issuing the Program Comment reproduced below.

While NCSHPO, NTHP and several other ACHP members were supportive of the overall goal of the Program Comment—to improve the condition of military housing—they remain opposed to some of the provisions of the Program Comment such as the inclusion of demolition, new construction or replacement construction. They believe those activities are not necessary to meet the overall goal and do not warrant a programmatic solution.

V. More Information

For further information on the Program Comment and the Army's analysis and process leading to its proposal, and a copy of the Design Guidelines and the Building Materials Catalog, please go to: https://www.denix.osd.mil/army-pchh/home/.

VI. Clarification Regarding Army Housing Partners

The ACHP interprets the Program Comment to allow the Army to ensure compliance with its terms regarding privatized housing by imposing such requirements on its housing partners.

VII. Text of the Program Comment

What follows is the text of the issued Program Comment (again, the text of Appendices A and B, the Design Guidelines and the Building Materials Catalog, can be found at https://www.denix.osd.mil/army-pchh/home/):

Program Comment for Department of the Army Inter-War Era Historic Housing, Associated Buildings and Structures, and Landscape Features (1919-1940)

1.0 Introduction

This Program Comment for Department of the Army (Army) Inter-War Era Historic Housing, Associated Buildings and Structures, and Landscape Features (1919-1940) (Program Comment) provides the Army with an alternative means to comply with Section 106 of the National Historic Preservation Act (NHPA), 54 U.S.C. 306108, and its implementing regulations at 36 CFR part 800 (Section 106) regarding management of its Inter-War Era housing, associated buildings and structures, and landscape features (hereinafter referred to as Inter-War Era housing). Section 106 requires federal agencies to take into account the effects of projects they carry out, license, or assist (undertakings) on historic properties, and to provide the Advisory Council on Historic Preservation (ACHP) a reasonable opportunity to comment with regard to such undertakings. The ACHP has issued the regulations that set forth the process through which federal agencies comply with these duties. Those regulations are codified under 36 CFR part 800 (Section 106 regulations).

Under Section 800.14(e) of those regulations, agencies can request the ACHP provide “program comments” on a category of undertakings that may have adverse effects. An agency can meet its Section 106 responsibilities with regard to the effects of those undertakings by following the steps set forth by the ACHP in a program comment, in lieu of conducting individual reviews of those undertakings as set forth in 36 CFR 800.3-800.7. In managing the largest inventory of historic housing in the federal government, the Army has an obligation to Soldiers and their families to provide housing that is safe, healthy, and affords the quality of life that is owed to our Soldiers and their families. The Army's obligation to military families, in the context of management of this large inventory of historic military housing, presents the Army with unique and significant challenges including: Providing for the well-being and quality of life for our Soldiers and their families living in historic housing; managing maintenance and repair costs for the large historic building inventory; addressing historic building materials that present lead-based paint, asbestos, and other hazards to housing occupants; rapidly turning around homes for reassigned military families in the context of the project-by-project review processes under 36 CFR 800 and the Section 106 Programmatic Agreements (PAs) at each installation; and preserving the historic and architectural character of its historic housing, associated buildings and structures, and landscape features.

In order to ensure positive historic preservation outcomes, the Program Comment requires the Army to implement management actions for Inter-War Era housing following the Design Guidelines for Army Inter-War Era Historic Housing (1919-1940) (Appendix A) (Design Guidelines), and the Building Materials Catalog for Army Inter-War Era Historic Housing (1919-1940) (Appendix B) (Building Materials Catalog), and also requires other treatment measures.

2.0 Program Comment Intent, Scope, and Definitions

2.1 Statement of Intent

The intent of this Program Comment is to address the Army's National Historic Preservation Act (NHPA) compliance requirements by establishing procedures for management of the Army's nation-wide inventory of over 3,200 Inter-War Era housing units that balance historic preservation requirements with the Army's responsibility to provide the thousands of military families who live in this historic housing with the quality of life, health, and safety they require.

In balancing the management of its Inter-War Era housing with historic preservation requirements, the Program Comment includes a set of management actions that address health and safety risks from historic building materials containing hazardous substances, the costs and benefits associated with various building materials, compliance process time, the material living conditions of historic housing, and the state of the Army's overall Inter-War Era housing inventory.

This Program Comment recognizes that standardized plans developed by the Army Quartermaster Corps were followed for the design and construction of the vast majority Army Inter-War Era housing, and that this housing is characterized by simplified architectural styles lacking character-defining design features often associated with the similar architectural styles ubiquitous in the civilian sector. In consideration of the standardized and simplified design of Army Inter-War Era housing, this Program Comment applies standardized criteria and approaches in the Design Guidelines and Building Materials Catalog, including step-by-step procedures for consideration and selection of appropriate building materials and for other activities associated with Inter-War Era housing management.

This Program Comment acknowledges that certain actions are required to improve the material living conditions for the military families who live in historic Inter-War Era housing such as: Addressing restrictive floorplans and the need for additional bedrooms and expanded living space, expansion and improvement of kitchen areas, additional bathrooms and bathroom improvements, modernization of heating and ventilation systems, and modernization of plumbing and electrical systems and fixtures. This Program Comment also recognizes the Army's need to manage the state of its overall inventory of Inter-War Era housing by at times, removing housing from its inventory (through demolition) that is deteriorated, underutilized and vacant, and/or presents potentially hazardous materials or unsafe conditions; and by replacing or adding housing to its inventory through the construction of compatible designed housing within existing Inter-War Era neighborhoods. This Program Comment ensures that the Army will maintain the historic character of Inter-War Era housing by implementing these and other management actions in accordance with established criteria and procedures in the Design Guidelines, Building Materials Catalog, and other Program Comment treatment measures.

The management actions addressed by this Program Comment directly improve the material living conditions and the quality of life, health and safety of the Army's Soldiers and families who live in Inter-War Era housing, while the treatment measures ensure the management actions are implemented in a manner that maintains the historic and architectural character of this housing or that minimize or mitigate any unavoidable adverse effects. The terms of this Program Comment make certain the Army will conduct Inter-War Era housing management actions in compliance with NHPA requirements and in balance with historic preservation considerations. In this manner, the intent of this Program Comment will be met and historic preservation will be integrated as part of the solution to some of the Army's most critical military family housing issues.

2.2 Scope

2.2.1 Summary

The scope of the Program Comment includes all Army Inter-War Era housing built between 1919 and 1940, with the exception of Army Inter-War Era housing formally designated by the National Park Service (NPS) as a National Historic Landmark (NHL) or as a contributing property within an NHL District, and Inter-War Era housing at Fort Meade, MD that remains subject to a Deed of Easement (see Section 2.2.5). The Army will treat its inventory of Inter-War Era housing as historic properties as defined by the NHPA, for the purposes of this Program Comment.

2.2.2 Category of Undertaking and Assessment of Effects

The category of undertaking addressed by this Program Comment is management actions. Management actions are defined as maintenance, repair, rehabilitation, renovation, abatement, mothballing, demolition, replacement construction, new construction, and lease and conveyance. The Army will implement management actions using historic building materials, in-kind building materials, and imitative substitute building materials, as set forth in the Design Guidelines and Building Materials Catalog at Appendices A and B, respectively.

The Army's implementation of management actions and its use of imitative substitute materials on Army Inter-War Era housing may have an adverse effect on historic properties. The Army will implement the treatment measures in Section 3 to avoid, reduce, and mitigate the adverse effects of its management actions.

2.2.3 Description of Property Types

Standardized plans developed by the Army Quartermaster Corps were followed for the design and construction of the vast majority of Army Inter-War Era housing. Army Quartermaster Corps standardized plans reflected prevailing civilian architectural designs, construction techniques, and community planning trends of the time, with certain regional style variations and use of locally available materials. Army Inter-War Era housing falls into the categories of Eclectic and Modern houses and includes Colonial Revival, Spanish Colonial, Mission, Tudor, and Craftsman styles. Each style has its own particular character-defining design elements that express the style. The predominating regional styles of Quartermaster Corps designed Inter-War Era housing are: Colonial Revival in the northeast, mid-Atlantic and northwest; Spanish Colonial in the southeast and southwest; and Colonial Revival, Mission, and Craftsman styles in Hawaii. Regional style variations among Quartermaster Corps designed Inter-War Era housing are exterior in nature; the interior layouts are generally similar and originally corresponded to military rank. The housing is manifest as single-family units, duplexes, quadplexes, and multi-unit apartment buildings.

Army Quartermaster Corps housing standardization was driven by cost and efficiency of construction, so that Army Inter-War Era housing is characterized by a simplified architectural style and lacks some of the more costly distinctive design features associated with similar architectural styles in the civilian sector. In addition, many have been modified over time and Army Inter-War Era housing may exhibit features of several different architectural styles in a single housing unit.

Following community planning trends of the time, the Army Quartermaster Corps also developed standardized plans for landscaping, neighborhood design and layout, circulation patterns, and the design of entire installations, all of which may now constitute or be part of a historic district or districts. The result of Army Quartermaster Corps standardization is that the same general housing designs, administrative buildings, landscapes, neighborhood designs, and overall installation designs are repeated, one after the other, on Army installations. See Section 3.1 for additional information and references regarding the history and property types for Inter-War Era and other historic Army housing.

2.2.4 Inventory of Inter-War Era Housing

The Army's current inventory of 3,235 Inter-War Era housing units indicates the following locations and number of housing units: Fort Benning, GA—492 Inter-War Era housing units; US Army Garrison, HI—386 units; Joint Base Lewis-McChord, WA—330 units; Fort Sam Houston, TX—296 units; Fort Sill, OK—259 units; Fort Bragg, NC -230 units; US Army Military Academy at West Point, NY—206 units; Fort Knox, KY—202 units; Fort Belvoir, VA—164 units; Fort Bliss, TX—147 units; Fort Riley, KS -143 units; Fort Meade, MD—112 units; Aberdeen Proving Ground, MD—97 units; Carlisle Barracks, PA—75 units; Hawthorne Army Depot, NV—34 units; Fort Myer, VA—26 units; Camp Parks, CA—9 units; Picatinny Arsenal, NJ—8 units; Rock Island Arsenal, IL—7 units; McAlester Army Ammunition Plant, OK—5 units; Presidio of Monterey, CA—4 units; Fort Campbell, KY—2 units; Arlington National Cemetery, VA—1 unit. This inventory represents the best available Inter-War Era housing inventory information as of the date of this Program Comment.

2.2.5 Applicability and Exclusions

This Program Comment applies to all Army Inter-War Era housing, with the exception of Army Inter-War Era housing formally designated by the Department of the Interior, National Park Service (NPS) as an NHL or as a contributing property within an NHL District. Section 110(f) of the NHPA requires that Federal agencies exercise a higher standard of care when considering undertakings that may directly and adversely affect NHLs and, to the maximum extent possible, undertake such planning and actions as may be necessary to minimize harm to NHLs. To exercise a higher standard of care for these NHLs, all Army Inter-War Era housing formally designated as an NHL, or housing formally designated as a NHL contributing property within a designated NHL District are not covered by this Program Comment. Undertakings that may affect designated NHL Inter-War Era housing will be addressed following the procedures in 36 CFR 800.3-800.7, and 36 CFR 800.10, and under the terms of applicable Section 106 Programmatic Agreements (PAs) or Memoranda of Agreement (MOAs).

The Army reviewed its NHL documentation to confirm that there are no Army Inter-War Era housing units that are designated by NPS as individual, stand-alone NHLs. All Inter-War Era housing units that are designated as NHLs are contributing properties to NHL Districts. A total of 213 Army Inter-War Era housing units are designated by the NPS as contributing properties in NHL Districts. Those NHL housing units are located at three installations: The US Army Military Academy at West Point, NY; Fort Myer, VA; and Fort Shafter, HI. The specific NHL housing units are: West Point NHL District, US Army Military Academy, West Point, NY, all 206 Inter-War Era housing units; Fort Myer NHL District, Fort Myer, VA, six Inter-War Era housing units identified as Quarters 17, 19, 20, 21, 22, and 28, located on Lee Ave; and Palm Circle NHL District, Fort Shafter, HI, one Inter-War Era housing unit identified as Quarters 18, the Hospital Commanding Officer's Quarters.

In addition to Army Inter-War Era housing already designated as NHL properties, any Army Inter-War Era housing that may be formally designated in the future by the NPS as an individual NHL or as a contributing property to a NHL District will not be covered by this Program Comment.

This Program Comment does not apply to effects on the following properties that are listed, or eligible for listing, on the National Register of Historic Places (NRHP): Archeological sites; properties and landscapes of traditional religious and cultural importance to federally-recognized Indian tribes or Native Hawaiian Organizations; human remains, funerary objects, sacred objects, objects of cultural patrimony to federally-recognized Indian tribes and Native Hawaiian Organizations, and Indian Sacred Sites.

Finally, this Program Comment does not apply to the 112 Inter-War Era housing units located at Fort Meade, MD. The Inter-War Era housing at Fort Meade is not a NHL. Rather, the Inter-War Era housing at Fort Meade is subject to a Deed of Easement dated 27 March 2003, between Mead Communities LLC (limited liability corporation) and the Maryland Historical Trust. Nothing in this Program Comment affects Deeds of Easement, which will continue to operate in accordance with applicable state and local laws. The Fort Meade, MD housing is the Army's only privatized historic housing subject to a Deed of Easement.

2.2.6 Methodology for Determining Appropriate Use of Historic, In-Kind, or Imitative Substitute Building Materials

Management of this large inventory of historic housing requires the Army to balance historic preservation considerations with the quality of life, health, and safety concerns of military families. The high costs of historic building materials and in-kind building materials impact the Army's ability to fully implement improvements to housing for military families. To achieve this balance, the Army will use the full range of available building materials including historic building materials, in-kind building materials, and imitative substitute building materials in its management actions, and will follow preservation planning documents and criteria that are specifically tailored to Inter-War Era housing in determining which materials are used. The planning documents are the Design Guidelines and Building Materials Catalog described below and included herein as Appendices A and B. With proper planning and materials selection, as provided for under this Program Comment, the Army's management actions will maintain the historic and architectural character of its Inter-War Era historic housing in balance with the quality of life, health, and safety concerns of military families who live in the housing.

Specified criteria are established in Section 3.2 for the selection of historic building materials, in-kind building materials, and imitative substitute building materials for use in Inter-War Era housing. The criteria for selection of a specific building material considers the need to maintain the historic and architectural character of the historic housing in balanced priority with the health, safety, and quality of life of the military families living in Inter-War Era housing.

The methodology for determining appropriate building materials in the context of Program Comment management actions is set forth in Section 3.2 and in the appended planning documents. Selection of appropriate building materials will follow the established criteria, and will be based on the unique circumstances of each housing unit. The focus of the criteria and planning documents is on preservation of the historic and architectural design characteristics of the housing, associated buildings and structures, and landscape features.

The Design Guidelines at Appendix A identify the character-defining features and design elements associated with the specific Inter-War Era architectural styles. Character-defining features include the overall housing style and design, decorative details, interior spaces and features, as well as associated buildings and structures, and landscape features. The Guidelines also provide the appropriate methods and approach for Inter-War Era housing management actions.

The Building Materials Catalog at Appendix B is used in concert with the Design Guidelines. The Building Materials Catalog provides additional specificity on building materials, their selection, and use. The Building Materials Catalog establishes the methodology for selecting specific building materials to include the evaluation process for determining the appropriate material to select in any given rehabilitation or repair. The evaluation process factors in availability, initial cost, lifecycle costs, historic significance, quality of life, health, safety, and material living conditions in determining use of appropriate materials. Catalog entries are provided for major components of the house design. Design considerations for each catalog entry are derived from the design fundamentals of scale, mass, proportion, and materials, to develop guidance for materials and component design that factor location, type, size, finish and maintenance in their selection. Focus is on appropriate design, applicable materials, and performance characteristics. Emphasis is placed on retention of the design integrity of the housing, associated buildings and structures, and landscape features. The Design Guidelines and the Building Materials Catalog ensure that the Army's management actions will occur in a manner that maintains the historic and architectural character of Inter-War Era housing.

2.2.7 Implementation

The Army will implement this Program Comment in lieu of conducting individual case-by-case reviews under 36 CFR 800.3-800.7. This Program Comment supersedes and replaces the requirements in Army PAs and MOAs for Army Inter-War era housing, associated buildings and structures, and landscape features. The Army will implement this Program Comment in lieu of all PA or MOA requirements and procedures applicable to Army Inter-War Era housing. The Army will also implement the Program Comment in lieu of any procedures, development agreements, lease and conveyance documents, environmental management plans, guidelines, reporting requirements, Integrated Cultural Resources Management Plans, and any and all other installation documents, standards, procedures, or guidelines pertaining to the preservation and management of Inter-War Era housing, associated buildings and structures, and landscape features.

2.3 Definitions

The following definitions apply for the purposes of this Program Comment:

Abatement means actions to eliminate, lessen, reduce, or remove hazardous and toxic materials, and unsafe conditions.

Army Inter-War Era housing (and Inter-War Era housing) means all housing constructed during the period 1919-1940 that is located on an Army installation or operated and managed by the Army or an Army privatized housing partner on a joint base. For Hawaii, Army Inter-War Era housing includes housing constructed from 1919-1943, in order to include housing built from 1941-1943 that are of similar design, construction, and location as Inter-War Era housing in this Program Comment. The term Inter-War Era housing is used throughout this Program Comment to refer to Inter War Era housing, associated buildings and structures, landscape features.

Associated buildings and structures includes detached garages, carports, storage buildings, and other buildings, structures, and objects associated with Army Inter-War Era housing.

Associated ancillary purposes that support housing operations (reference Lease and conveyance) refers to the limited use of Inter-War era housing, buildings, and structures for purposes such as rental offices for privatized housing partners, community centers, and temporary public safety offices that service the housing areas.

Highly deteriorated means there are major structural and/or mechanical system failures and the resulting costs to rehabilitate or renovate Inter-War Era housing exceeds the combined costs of demolition and new or replacement construction, on a per square foot basis.

Historic building materials are building materials that are 50 years old and older.

Historic properties means buildings, sites, structures, objects, landscapes, and districts that are eligible for inclusion or that are included in the NRHP.

In-kind building materials are new building materials that are identical to historic building materials in all possible respects including their composition, design, color, texture, and other physical and visual properties.

Imitative substitute building materials (also imitative materials) are modern, industry standard, natural, composite, and synthetic building materials that simulate the appearance of and substitute for historic building materials.

Inter-War Era Neighborhood means a defined geographical area, district, or locality on an installation that is characterized by and comprised predominantly of Inter-War Era housing, associated buildings and structures, and landscape features.

Landscapes and Landscape features means the overall design and layout of the Inter-War Era housing communities including circulation systems and patterns, plantings and landscaping, open spaces, playgrounds, parking areas, signage, site furnishings, parade grounds, lighting, sidewalks, setbacks, other associated landscape features, and viewsheds into Inter-War Era historic properties and districts and out from Inter-War Era historic properties and districts into other historic properties and districts.

Lease and conveyance means the execution of lease and conveyance documents for the purposes of possession, management, and operation of Inter-War era housing solely for the purposes of and use as housing and for associated ancillary purposes that support housing operations.

Maintenance and repair means routine activities required to maintain buildings, building systems (such as heating and ventilation, plumbing, and electrical systems), building fixtures, and other building features or materials in an operational state, or to bring them back to operating condition by repair or replacement of broken, damaged, or deteriorated elements of building systems, fixtures, materials, and features.

Major Decision refers to the Army decision-making process regarding proposed demolition of Inter-War Era housing.

Major deficiency means that a required, numbered or lettered step in an identified procedure in this Program Comment has been entirely omitted, not reasonably addressed, or is substantially incomplete.

Management actions means maintenance, repair, rehabilitation, renovation, abatement, mothballing, demolition, replacement construction, new construction, lease and conveyance actions that may have an adverse effect on Army Inter-War Era housing, associated buildings and structures, and landscape features.

Mothballing means slowing and controlling long-term deterioration of housing while it is unoccupied, and protecting it from sudden loss.

National Historic Landmarks (NHL) are historic properties that have been formally designated as NHLs by the Secretary of the Interior. NHLs possess exceptional value as commemorating or illustrating the history of the United States (reference the Historic Sites Act of 1935).

New construction means construction of housing, associated buildings and structures, and landscape features within existing Inter-War Era housing neighborhoods.

Public educational materials means new and existing Inter-War Era housing historic contexts, Design Guidelines, and other historical documentation containing plans and designs of Inter-War Era housing, neighborhoods, historic landscape plans, and the overall historical development of Army installation designs.

Privatized housing means military-owned housing that has been privatized under the Army's Residential Communities Initiative (RCI). The RCI operates on Army installations through the operation of legal partnerships between the Army and private sector developers. At each installation where RCI housing is located, the Army conveys ownership of existing housing and leases land to the RCI partnership. The RCI partnership then operates and manages the conveyed housing and leased lands for military housing purposes. Upon termination of the ground lease, ownership of all RCI partnership owned improvements (including all housing) that is located within the boundaries of the ground lease is automatically conveyed back to the Army.

Professional assistance means assistance from an individual who meets the Secretary of the Interior's Professional Qualification Standards in the appropriate field (e.g., architectural history, historic architecture, or archeology).

Quality of Life means the general wellbeing and material living conditions of individuals, families, and social groups such as military families living in historic housing.

Rehabilitation means repairs, additions, and other alterations and modifications to a building that preserve, to the greatest extent possible, historic building materials, historic building design, and other historic building features which convey its cultural, historical, and architectural values.

Renovation means improvements to housing including alterations; modifications; additions that increase the square footage; interior floor plan changes; large scale replacement of out of date, damaged, deteriorated, or defective building systems and materials; and other alterations that modernize housing to improve the quality of life of residents.

Replacement construction means housing, associated buildings and structures, and landscape features constructed within existing Inter-War Era housing neighborhoods in the immediate area of demolished housing, associated buildings and structures, and landscape features.

Treatment measure or treatment means any existing, new, or updated materials or actions that serve to address, reduce, minimize, or otherwise mitigate adverse effects on historic properties, and may include research reports, historical documentation, recordation, and other materials and activities.

Viewshed means all of the area visible from a particular location, viewing point, or series of viewing points. Includes all surrounding points that are in the line of sight from a particular location, viewing point, or series of viewing points. Excludes all points and locations that are not visible and/or are obstructed by terrain, other natural features, man-made features, and points beyond the horizon.

3.0 Treatment Measures for Army Inter-War Era Historic Housing

The Army will implement treatment measures to address, reduce, minimize, or otherwise mitigate adverse effects on Army Inter-War Era historic housing resulting from its management actions. The treatment measures include: Extensive existing documentation, research to further develop the Army Inter-War Era housing historic context, development and implementation of Design Guidelines, development and implementation of a Building Materials Catalog, an Army policy statement for Program Comment implementation, development of public information and use of social media, lifecycle tracking of building materials data, preservation of the Army's most significant Inter-War Era housing, and monitoring and reporting of treatment measures.

3.1 Existing Documentation and Recordation Applicable as Treatment Measures

3.1.1 Army-Wide Historic Context. Documentation, and Recordation of Inter-War Era Housing, Associated Buildings and Structures, Landscape Features

The Army has extensive existing documentation and recordation on the Army-wide history and historic context of the Inter-War Era housing, its exterior designs and architectural styles, interior designs and floorplans, factors influencing design variations, and its associated buildings and structures, and landscape features.[ENDNOTE 1] This existing set of Army-wide documentation serves as a Program Comment treatment measure because it provides comprehensive documentation and recordation of Inter-War Era housing, associated buildings and structures, and landscape features. This documentation has been consolidated in a single location and is available on the Army's Inter-War Era Housing Program Comment website located at: https://denix.osd.mil/army-pchh/home/.

Army installations are part of the country's built environment. Similar to civilian towns and cities, Army installations are a record of their time and development history, and represent the planning and architectural concepts associated with the times in which they were established and modified. The Army's existing documentation represents an extensive inventory and recordation of the planning, architectural concepts, and development history associated with Inter-War Era housing, associated buildings and structures, and landscape features. The existing documentation provides a detailed account and historic context for Army Inter-War Era housing, it records its place in the history of Army housing evolution and development of Army Quartermaster Corps standardized planning; includes a comprehensive inventory of Quartermaster Corps Inter-War Era housing designs and interior floor-plans; provides detailed explanations of the Inter-War Era designs and their variations; provides descriptions of the various Inter-War Era housing forms, architectural styles, and their regional style variations; includes plans for their designed landscapes and neighborhoods; and provides overall historic context information regarding the historical development, designs, and plans of Army installations, landscapes, and neighborhoods over time.

3.1.2 Installation-Specific Historic Contexts and Documentation and Recordation of Inter-War Era Housing, Associated Buildings and Structures, and Landscape Features

Individual Army installations have also documented and recorded Inter-War Era housing in specific installation-level documents for NHPA compliance purposes. Installation-level documentation includes installation Cultural Resource Management Plans that contain relevant historic contexts, an inventory of historic properties on each installation, electronic recordation of the location of these housing areas and historic districts in installation Geographic Information Systems and often, detailed documentation prepared in the context of installation NHPA Section 106 compliance activities. Several examples of such detailed installation-level documentation of Inter-War Era housing are provided on the Army's Inter-War Era Housing Program Comment website. Examples of this documentation include detailed documentation and recordation of specific Inter-War Era housing to the standards of the Historic American Buildings Survey and similar detailed documentation and recordation of specific Inter-War Era historic landscapes to the standards of the Historic American Landscapes Survey. Such installation-specific records are recognized as part of the overall set of Army historical information directly relevant to the recordation and documentation of Army Inter-War Era housing.

3.2 Additional Treatment Measures

The Army will carry out the following additional treatment measures for Inter-War Era Housing, associated buildings and structures, and landscape features.

3.2.1 Army Inter-War Era Housing Historic Context

The Army will conduct additional historic context research by the end of calendar year 2021, that will:

a. Expand on existing Inter-War Era housing historic context information.

b. Address the precedents on which Army Quartermaster Corps Inter-War Era house styles are based.

c. Examine Army Inter-War Era housing design in the context of architectural design trends in the civilian sector.

d. Further describe the architectural styles present in the Army's inventory of Inter-War Era housing.

e. Examine Army Inter-War Era housing in the context of social and economic changes during the Inter-War Era.

f. The Army will ensure the information is publicly available on the Army's Inter-War Era Housing Program Comment website.

3.2.2 Design Guidelines, Building Materials Catalog, and Building Materials Selection Criteria and Procedures for Army Inter-War Era Housing

The Army will carry out management actions in accordance with the Design Guidelines, the Building Materials Catalog, and building materials selection criteria and procedures to ensure that the historic and architectural character of Inter-War Era housing is maintained.

3.2.2.1 Design Guidelines (see Appendix A)

The scope of the Design Guidelines includes all Army Inter-War Era housing and its associated buildings and structures, and landscape features subject to this Program Comment. The purpose of the Design Guidelines is to ensure the historic and architectural character-defining features of Inter-War Era housing and its associated buildings and structures, and landscape features are maintained in the context of Army management actions affecting Inter-War Era housing. The Design Guidelines provide specific information regarding Inter-War Era housing architectural styles and historic districts containing Inter-War Era housing, and identify the overall character-defining features and design elements associated with the specific Inter-War Era architectural styles. Character-defining features of the housing include the overall shape, style and design of the building, decorative details, interior spaces and features, as well as its associated buildings and structures, and landscape features.

The Guidelines also provide methods and approach for Inter-War Era housing routine maintenance, emergency repairs and disasters, rehabilitation, renovation, new additions, new construction, replacement construction, and improvements to windows and doors, entrances, porches and details, roofs, foundations and walls, interiors, and interior structural systems. The Guidelines also address mothballing and layaway of housing and provide specific guidelines for demolition. The Guidelines address historic designed landscapes and features, historic districts containing inter-war era housing, circulation systems and paving patterns, and associated buildings and structures. The Design Guidelines also address force protection requirements.

3.2.2.2 Building Materials Catalog (see Appendix B)

The Building Materials Catalog establishes a methodology for selecting specific building materials for use in rehabilitation or renovation of Inter War Era housing that will maintain the historic and architectural character of the housing. The Army will select materials specified in the Building Materials Catalog. Catalog entries are provided for major components of the house design. Design considerations for each entry are derived from the design fundamentals of scale, mass, proportion, and materials to develop guidance for materials and component design that factor location, type, size, finish and maintenance in their selection. Emphasis is placed on retention of the design integrity of the dwelling and other aspects of integrity. The Building Materials Catalog may be amended to include new building materials as they become available following the procedures in Section 8.

3.2.2.3 Building Materials Selection Criteria

The Army will apply these overarching criteria for the selection of building materials. These criteria address the need to maintain the historic and architectural character of Inter-War Era housing in balanced priority with the health, safety, and quality of life considerations for military families living in this housing. The overarching criteria for building materials selection are: When health and safety of military families is of concern, or when the initial or on-going use of historic building materials and in-kind building materials impacts the Army's ability to fully implement quality of life improvements to housing for military families, imitative substitute building materials will be considered for use only in a manner that maintains the historic and architectural character of the historic housing and when consistent with the results of the following building materials selection procedure.

3.2.2.4 Building Materials Selection Procedure

The Army will implement the following step-by-step procedure for the selection of appropriate building materials for the rehabilitation or renovation of Inter-War Era housing. Where Inter-War Era housing has been privatized, Army housing partners will implement the procedure. The building materials selection procedure will also be applied to purchases of bulk or stock materials used in maintenance and repair actions. This will facilitate implementation of maintenance and repair actions and will appropriately standardize the materials used in this standardized design housing stock. The step-by-step procedure for selection of building materials is:

a. Characterize historic building materials currently present in terms of: Design, material properties, condition, performance, safety, and presence of hazards such as lead-based paint, asbestos, and other hazardous materials.

b. Determine if the health and safety of housing occupants is a concern due to unsafe or hazardous historic building materials.

c. Determine if the costs associated with initial or continued use of historic building materials impacts the ability to fully implement quality of life improvements to the housing.

d. Determine if a historic building material must be replaced due to deterioration, health and safety considerations, or financial impacts to quality of life improvements. (If historic building material replacement is required due to the material's deterioration, determine the cause of the failure to ensure that the new replacement in-kind or imitative substitute material will not fail for the same reasons that caused the historic building material to fail).

e. If replacement of historic building materials is required, determine if there are material characteristics of the historic building materials that should be improved upon with use of in-kind building materials or imitative substitute building materials.

f. Evaluate replacement in-kind building materials and imitative substitute building materials (i.e., replacement building materials) with respect to design and material properties using the Design Guidelines and Building Materials Catalog. Evaluate the expected performance, costs, and short and long-term cost/benefit considerations of the replacement building materials. Determine if the costs associated with use of in-kind building materials impacts the ability to fully implement planned quality of life, health, and safety improvements to the housing.

g. Based on the analysis in f. above, compile a short list of replacement building materials from the Building Materials Catalog.

h. Determine and select the appropriate replacement building material from the short list of materials. When an in-kind building material is determined to be the appropriate replacement building material, the in-kind building material will be selected and used. Exterior vinyl siding will only be selected and used after other replacement building materials are evaluated and determined not to be the appropriate replacement building material in accordance with these procedures.

i. Document the evaluation and selection process.

j. Write specifications for design and installation, and oversee project planning and implementation.

Before removing interior walls that are original to the historic floorplan or that would result in a loss of original historic features such as mantels, staircases, and molding, the Army or Army housing partner will first consider options to retain those original historic walls and features. If the Army or Army housing partner decides to proceed with the removal of such interior walls, they will consider retaining original historic features. If these features and materials will be retained, the selection of building materials for management actions subsequently affecting them will proceed in accordance with the process outlined above in this section. When such original historic features are not retained, the Army or Army housing partner will consider salvage of such historic features for possible reuse on other similar housing at that location.

3.2.2.5 Ensure Management Actions Follow the Design Guidelines, Building Materials Catalog, Building Materials Selection Criteria, and Building Materials Selection Procedure

To implement this requirement, the Army will:

a. Ensure installations and Army privatized housing partners with Inter-War Era housing have access to and implement the Design Guidelines (at Appendix A), Building Materials Catalog (at Appendix B), and the Building Materials Selection Criteria and Selection Procedure in this Program Comment for management actions affecting Army Inter-War Era housing.

b. Ensure the availability of historic preservation professional assistance for Design Guidelines and Building Materials Catalog implementation.

c. Monitor and report on the implementation of the Design Guidelines, and Building Materials Catalog, Building Materials Selection Criteria, and Building Materials Selection Procedure.

d. Maintain oversight of Design Guideline and Building Materials Catalog implementation through the Army Federal Preservation Officer (FPO).

e. Make the Design Guidelines and Building Materials Catalog publicly available on the Army's Inter-War Era Housing Program Comment website.

f. Update the Building Materials Catalog as new, applicable building materials become available, or as needed based on building materials lifecycle tracking and analysis following the process for amendments in Section 8 (b).

3.2.3 Public Educational Materials and Social Media Distribution

All documentation prepared under this Program Comment regarding the history of Army Inter-War Era housing are considered public educational materials and the Army will consolidate and maintain it at a single publicly accessible website located at https://denix.osd.mil/army-pchh/home, ongoing from the date of issuance of the Program Comment through 2055. Public educational materials include new and existing Inter-War Era housing historic contexts, Design Guidelines, Building Materials Catalog, and other historical documentation containing plans and designs of Inter-War Era housing, neighborhoods, historic landscape plans, the overall historical development of Army installation designs, lifecycle building materials information, and other Program Comment reports.

The Army will use social media hosted by the Defense Environmental Information Exchange platform at https://twitter.com/DENIXnews, to provide historic preservation information to the public. Specifically, the Army will develop and distribute monthly social media content using the information developed for the Program Comment for Inter-War Era housing and general information pertaining to Army historic preservation activities and other Army historic property types through 2025.

3.2.4 Lifecycle Data Tracking for In-Kind Building Materials and Imitative Substitute Building Materials Used in Army Inter-War Era Housing

The Army conducted a lifecycle cost/benefit analysis focused on three different types of building materials that have been used on Army Inter-War Era housing: (1) Historic building materials that were rehabilitated and reused, (2) in-kind building materials, and (3) imitative substitute building materials. The analysis compared lifecycle quantitative and qualitative factors associated with rehabilitated historic windows on 43 Inter-War Era housing units, in-kind wood windows on 127 Inter-War Era housing units, and vinyl windows used on 202 Inter-War Era housing units. The analysis also compared the lifecycle factors for in-kind natural stone slate roofing with synthetic slate roofing used on 76 Inter-War Era housing units. The costs used in the analysis were the actual cost estimates and expenditures on Army Inter-War Era housing from two installations in the eastern United States, incurred within the last 5 years for all analyzed categories of windows and roofing.

The results of the lifecycle analysis of both windows and roofing indicated that, for one-half the cost of either the rehabilitated historic building materials or the in-kind building materials, the imitative substitute materials would deliver the same 100 year to 125 year service-life expected from the historic building materials. The results of this cost/benefit analysis indicate that, in consideration of lifecycle, quantitative, and qualitative factors, the imitative substitute building materials analyzed would deliver a better lifecycle cost/benefit solution than rehabilitate historic building materials or in-kind building materials. The results of this analysis suggest that the expanded use of imitative substitute building materials for Army Inter-War Era housing may achieve a significant lifecycle cost/benefit.

An estimate of the years of service for in-kind building materials and imitative substitute materials was required for the cost/benefit analysis due to the lack of systematically collected, quantifiable, lifecycle data regarding the longevity of these materials. Estimated years of service used in the cost/benefit analysis for in-kind building materials and imitative substitute building materials were based on the manufacturer's material replacement warranty period.

In recognition that the historic preservation knowledge base regarding long-term performance for in-kind building materials and imitative substitute building materials is underdeveloped, the Army will conduct lifecycle tracking of in-kind building materials and imitative substitute materials in Inter-War Era housing as follows:

a. The Army will track data on in-kind and imitative substitute building material types (identified in the Building Materials Catalog) on approximately 300 Inter-War Era housing units.

b. All data will be from materials used in Army Inter-War Era housing units.

c. Data will be collected at the individual housing unit level.

d. The following in-kind and imitative substitute building material types will be tracked:

i. Vinyl replacement windows

ii. In-kind wood replacement windows

iii. PVC window trim

iv. Synthetic slate roofing

v. Fiber cement siding

e. The following data points will be collected on each in-kind and imitative substitute building material type:

i. Year Building Material Installed

ii. Year Building Material Replaced

iii. Lifespan (number of years from year installed to year replaced)

iv. Materials warranty period

f. Data will be collected and reported annually from 2020 to 2025, and will then be collected and reported at five-year intervals, in 2030, 2035, 2040, 2045, 2050, and 2055, as specified in Section 5, and be made available to the public through the Army's Program Comment website.

g. The Army will assess the lifecycle data at five year intervals to identify significant new information pertaining to the lifecycle of in-kind building materials and imitative building materials used on Inter-War Era housing.

h. The Army will ensure distribution of significant new information pertaining to the lifecycle of in-kind building materials and imitative building materials used on Inter-War Era housing to installation housing managers and housing privatization partners responsible for the selection of appropriate building materials.

i. The Army will use significant new information to update the Building Materials Catalog and the Inter-War Era housing lifecycle cost/benefit analysis, as needed.

3.2.5 Demolition Proposals, Criteria, Procedures, and Decision-Making

Section 3.2.5, and its subsections, pertaining to demolition proposals, criteria, procedures, and decision-making may be removed or amended at any time, at the ACHP's discretion, following the procedures in Section 8. Upon removal, the Army will no longer conduct demolition of Inter-War Era housing under this Program Comment. Upon amendment, the Army will conduct demolition of Inter-War Era housing under the Program Comment amended procedures.

The Army will apply specific overarching criteria when considering Inter-War Era housing for demolition. These criteria address health, safety, and quality of life considerations for military families living in this housing. The overarching criteria are: Inter-War Era housing will be considered for demolition when it is highly deteriorated, and/or vacant for 12 months or longer due to underutilization, and/or if potentially hazardous materials or unsafe conditions are present.

3.2.5.1 Demolition Procedure

A specific decision-making procedure will be followed to address demolition proposals for Inter-War Era housing. The Army or, where Inter-War Era housing has been privatized, Army housing partners, will implement the following step-by-step procedure when proposing the demolition of Inter-War Era housing:

a. Determine and characterize the housing unit's current condition and use, including if it is in a highly deteriorated condition, and/or vacant for 12 months or longer due to underutilization, and/or if potentially hazardous materials or unsafe conditions are present.

b. Evaluate prudent and feasible alternatives to demolition including: Rehabilitation, renovation, reuse, layaway and mothballing, or return of privatized housing to Army ownership. Develop a cost estimate associated with each evaluated alternative. Cost estimates will include the costs of abatement of potentially hazardous materials and unsafe conditions, costs to layaway and mothball the housing, per square foot, costs to rehabilitate or renovate the housing, per square foot, and costs to demolish the housing and to construct new or replacement housing. Determine if the costs to rehabilitate or renovate the Inter-War Era housing that is highly deteriorated exceeds the combined costs of demolition and new or replacement construction, on a per square foot basis.

c. Determine if there are, or are not, any prudent and feasible alternatives to demolition based on the evaluation of alternatives.

d. Prepare a Building Disposition Report (Report) if it is determined that there are no prudent and feasible alternatives to demolition. The Report will evaluate each prudent and feasible alternative to demolition and will include: The housing unit's current condition including if it is in a highly deteriorated condition; determination if it has been vacant due to underutilization for 12 months or longer, the likelihood for re-utilization as housing in the next five years, and the feasibility and costs of long-term layaway and mothballing; the presence of potentially hazardous materials or unsafe conditions and cost estimates for remediation; estimates of the costs to rehabilitate or renovate housing that is highly deteriorated and estimates of the costs for demolition and new or replacement construction of such housing on a per square foot basis; a determination if the costs to rehabilitate or renovate housing that is highly deteriorated exceeds the combined costs of demolition and new or replacement construction on a per square foot basis; preparation of appropriate state/SHPO-specific historic property inventory form; interior and exterior photographic documentation of the housing by means of digital photography meeting the standards in 3.2.5.3; plans for salvage, inventory, and storage (in a manner that prevents deterioration) of any significant architectural elements for reuse elsewhere on similar housing units; measures for protection of adjacent historic buildings, sites, landscape features, and archeological resources from damage during demolition activities; the procedures defined in Section 4.2 to address the discovery of archeological resources or human remains during ground disturbing activities (discovery procedures in Section 4.2 may be cited and incorporated by reference for this purpose); and basic design concept for any new construction or replacement construction to ensure that it will be in accordance with Design Guidelines for new and replacement construction.

e. Publish a public notice of availability for the Report in appropriate local media. The public notice will also elicit public comments regarding the action. The public notice will specify a 30-day comment period and a deadline date for receipt of any comments. The public notice must describe any steps required to obtain the Report; this can include a reference to a website location, a POC and mailing address, an email, phone number, or other equivalent mechanism for Report distribution.

f. Provide the Report to the responsible SHPO, ACHP, and appropriate Indian tribes or NHOs for a 30 day comment period. The 30-day SHPO, Indian tribe and NHO comment period should coincide with the public comment period. The Report and request to the SHPO, Indian tribes and NHOs for their comments will be provided by the installation where the housing has not been privatized, or by the privatized housing partner holding title to the housing where the housing has been privatized.

g. SHPO, ACHP, Indian tribe, NHO, and interested public party comments should identify if they believe there is a major deficiency in following the Program Comment Demolition Procedure specified in Section 3.2.5.1 a-f.

h. Where a SHPO, ACHP, Indian tribe, NHO, or interested party comment indicates that there may be a major deficiency in following the Demolition Procedure specified in Section 3.2.5.1a-f, the installation or privatized housing partner (as applicable) will coordinate with the commenting party and take appropriate action, as necessary, to resolve the deficiency. The installation, or privatized housing partner where housing has been privatized, will notify the commenting party in writing regarding how the major deficiency has been or will be addressed.

i. ACHP review. If any interested public party or relevant SHPO, Indian tribe, or NHO believes that a major deficiency has not been addressed in accordance with Section 3.2.5.h, they may request ACHP review and comment regarding the major deficiency. The ACHP will notify the Army FPO when it has received a request for ACHP review under this Section within 3 days of its receipt of the request. The Army FPO will consult with the ACHP regarding the major deficiency and will provide any additional documentation requested by the ACHP. Within 30 days after receipt of a request for ACHP review under this Section, the ACHP will either provide the Army FPO with recommendations which the Army will take into account in reaching a decision on the proposed demolition, or will notify the Army FPO that it will not comment pursuant to the Program Comment. The Army FPO will respond, as appropriate to any ACHP comments and indicate how the Army has or will take ACHP recommendations into account in reaching its final decision. The ACHP will notify the interested public party or relevant SHPO, Indian tribe, or NHO regarding the results of the ACHP review.

3.2.5.2 Decision-Making for Proposed Demolition of Inter-War Era Housing

a. Demolition proposals for Inter-War Era housing require preparation of a Major Decision (MD) package and its submission to Headquarters, Department of the Army for final decision. The MD package will include: An executive overview; scope of the demolition action with cost and justification/rationale for demolition; financial assessment of the impacts on development costs for the overall housing project; a schedule; the Building Disposition Report; all public, SHPO, Indian tribe, or NHO comments and how each comment has been addressed or adjudicated; a summary of any major deficiency in following Demolition Procedure Section 3.2.5.1a-f identified in the public, SHPO, Indian tribe, or NHO review and actions taken to resolve the deficiency.

b. Army FPO Review. The MD package shall include the Army FPO's concurrence that the Program Comment Demolition Procedure Section 3.2.5.1 has been followed. If the FPO determines that a major deficiency in following Demolition Procedure Section 3.2.5.1 identified by a SHPO, Indian tribe, NHO, or interested party has not been adequately resolved, the MD package will be returned for further resolution of the deficiency and re-submission.

c. Army Decision. MD packages with Army FPO concurrence will be provided to the Deputy Assistant Secretary of the Army for Installations, Housing and Partnerships, or an equivalent or higher Army authority, for the final decision to approve or disapprove the proposed demolition (demolition decision). The Army will provide a summary of each demolition decision to the ACHP within 30 days of such a decision, and will include a summary of all demolition decisions in the relevant Annual Report (see Section 5). The summaries will include the location of the housing proposed for demolition, reason for proposing demolition, alternatives considered, summary of comments by SHPO, Indian tribe, NHO, and other interested parties, and how such comments were addressed.

3.2.5.3 Digital Photographic Standards

The Army will implement the following National Park Service standards for digital photography:

a. Digital photographic documentation of housing proposed for demolition will use Tag Image File format (TIFF), RAW format images, or JPEGs converted to TIFFs for the best image resolution. RGB color digital TIFFs are preferred.

b. Digital camera resolution will be set to the maximum or largest pixel dimension the camera allows, two megapixels (1200 × 1600 pixel image) to six megapixels or greater (2000 × 3000 pixel image) is recommended.

c. Photographs will be clear, well-lit, well-composed, include each façade, and provide an accurate visual representation of the housing and its significant features.

d. The number of photographs depends on the size and complexity of the housing, but will include as many as needed to depict the current condition and significant features of the property. A few photographs may be sufficient to document a single house; larger or multi-unit housing may require a number of photos.

e. Photographs will show the principal facades and the setting in which the property is located. Additions, alterations, and associated structures will appear in the photographs. The photographs will include views of interiors, outbuildings, landscaping, or unusual features of the property.

f. All digital photographs will be archived on site with either the installation or housing partner (as appropriate), as part of the administrative record for the project.

3.2.6 Lease and Conveyance of Inter-War Era Housing for Use as Housing

This provision applies to ground lease and conveyance of Inter-War Era housing associated with the Army's privatized housing program, currently referred to as the Residential Communities Initiative. The applicability of this provision is limited solely to leasing or otherwise conveying Inter-War Era housing for the purposes of possession, management, and operation as housing and associated ancillary purposes that support housing operations. The Army will ensure that entities to which it leases or otherwise conveys Inter-War Era housing for the purposes of possession, management, and operation as housing and associated ancillary purposes follow this Program Comment for all management actions associated with these properties. This provision also applies to the reversion of leased or otherwise conveyed Inter-War Era housing from a management entity back to the Army, whereby the Army will follow this Program Comment for all management actions associated with these properties.

3.3 New Construction and Replacement Construction Procedures

New construction and replacement construction activities under this Program Comment are limited to existing Inter-War Era neighborhoods. The Design Guidelines include guidelines for new construction and replacement construction of housing, associated buildings and structures, and landscape features within Inter-War Era neighborhoods. The Army will, in accordance with the Design Guidelines:

a. Ensure new and replacement construction is compatible with the mass, form, character-defining features, and architectural style of the existing housing, associated buildings and structures, and landscape features.

b. Ensure new and replacement construction does not completely obstruct views out from or into a historic district.

c. Maintain compatibility of the front elevation of housing with the scale, setback, and spacing of the surrounding historic housing.

d. Ensure that any new and replacement construction associated with or affecting historic circulation patterns occurs in accordance with Design Guideline, Guidelines for Circulation Systems and Paving Patterns.

3.4 Preservation of the Army's Most Significant Inter-War Era Housing

The Army will set aside and give special consideration to protecting and preserving its most significant Inter-War Era housing. The Army's full set of 213 Inter-War housing units designated as NHLs (as identified in Section 2.2.5), are set aside from this Program Comment for a higher standard of care and preservation by the Army. This Program Comment does not apply to and excludes the 213 Army Inter-War Era housing units formally designated as a NHL or as a contributing property within a NHL District, or to Inter-War Era housing that may be designated as a NHL in the future. To implement a higher standard of care and preservation the Inter-War Era NHL housing, the Army will:

a. To the maximum extent possible, undertake planning and actions in a manner to minimize harm to Inter-War Era NHL properties.

b. Address the effects of its undertakings on Army Inter-War Era NHL housing by following Section 110(f) of the NHPA, and the procedures in 36 CFR 800.3-800.7 and 36 CFR 800.10, or under the terms of applicable Section 106 agreements.

c. Implement the special requirements for protecting NHLs at 36 CFR 800.10.

d. Ensure the ACHP is invited to participate in any consultation to resolve adverse effects to Inter-War Era NHL housing.

e. Notify the Secretary of the Interior of any consultation involving Inter-War Era NHL housing and invite the Secretary of the Interior to participate in consultation where there may be an adverse effect.

f. The Army FPO will issue an Army-wide NHPA policy memorandum within 45 days from the date of issuance of this Program Comment indicating that the Army's formally designated Inter-War Era NHL Housing requires special consideration and a higher standard of care and preservation by the Army. The memorandum will state: All 213 Army Inter-War Era NHL Housing units are excluded from this Program Comment; undertakings that may affect formally designated Inter-War Era NHL housing units will be managed following the procedures in 36 CFR 800.3-800.7, and 36 CFR 800.10, and under the terms of existing Section 106 MOAs or PAs, as appropriate; and Army Inter-War Era housing that may be formally designated in the future by the NPS as a NHL will not be covered by this Program Comment.

4.0 No Further Historic Property Identification and Evaluation Efforts Required, and Historic Property Discovery Procedures

4.1 No Further Historic Property Identification and Evaluation Efforts Required

The Army's Inter-War Era housing has been extensively identified, assessed, documented, and recorded on a nation-wide and local basis (see Section 3.1). The Army will not conduct any further historic property identification and evaluation efforts in connection with the management actions covered by this Program Comment. This is based on the: Acknowledgement that its inventory of Inter-War Era housing are historic properties; extensive existing information pertaining to the identification, assessment, documentation, and recordation of Inter-War Era housing on a nation-wide and local basis; extensive prior ground disturbance associated with Inter-War Era housing tract development and the resulting low probability for the presence of NRHP eligible archeological properties; and no indication from Federally-recognized Indian Tribes or Native Hawaiian Organizations of concern for known archeological properties or properties of religious or cultural significance in Army Inter-War Era housing areas.

The Army's Inter-War Era housing areas are the equivalent of urban/suburban housing development tracts in the civilian sector. As such, there is significant prior ground disturbance in Army Inter-War Era housing areas resulting from the construction of the housing tracts including overall grading of the entire development sites, housing construction, construction of associated buildings and structures, road and sidewalk construction, installation of above and below ground utilities, landscaping, construction of recreational structures, and subsequent ground disturbing actions that have occurred after the original construction. Such areas of extensive ground disturbance associated with housing tract development are generally considered to have a low probability for the presence of NRHP eligible archeological properties.

4.2 Discovery Procedures for Historic Properties and Native American and Native Hawaiian Human Remains and Funerary Objects

The Army will provide sufficient information to contractors and staff involved in implementing management actions on Inter-War Era housing regarding these procedures for discovery of historic properties, and Native American or Native Hawaiian human remains and funerary objects. If there is a discovery of or unanticipated effects to historic properties during the conduct of management actions for Inter-War era housing, a report of findings describing the events leading to and immediately following the reporting of the inadvertent discovery will be prepared within thirty (30) calendar days of each inadvertent discovery. This report shall be provided to the SHPO and, as appropriate, Indian tribes and NHOs.

Procedures for discovery are also incorporated in the Design Guidelines (Appendix A) for Inter-War Era housing management actions involving ground disturbing activities. Ground disturbing activities may include but are not limited to housing additions, new construction, replacement construction, demolition, large-scale landscaping activities, and water and sewer line maintenance.

4.2.1 Discoveries of and Unanticipated Effects to Historic Properties

The following procedures will be followed during the implementation of a management action under this Program Comment where there is a discovery of or unanticipated effects to historic properties.

a. Should the Army or, where Inter-War Era housing has been privatized, Army housing partners, find that a management action is having an adverse effect that was not anticipated, make a discovery of archeological artifacts, archeological features or other archeological materials, human remains, or other previously unknown properties that, in the opinion of the Army agency official (Army installation commander, garrison commander, or their official designee), may be a historic property, the agency official will ensure: All work activity is immediately stopped within a 75 foot radius buffer zone around the discovered property; the discovered property is protected from looting and vandalism; and the relevant SHPO, Indian tribes or NHOs are notified of the discovery within twenty four (24) hours. All management actions may continue outside the 75 foot buffer zone.

b. If human remains and/or funerary objects that may be Native American or Native Hawaiian in origin are discovered, Section 4.2.2 will be followed. If discovered human remains are historic but are not of Native American or Native Hawaiian origin, and are not part of a crime scene, the Army agency official, in consultation with the SHPO, will have an archeologist assess the area where the remains were found to determine the nature and extent of the remains, determine if a cemetery is present, and will evaluate the feasibility of preserving remains in place or whether they will be exhumed and re-located. The Army acknowledges that the respectful treatment of all human remains is a paramount concern and that an appropriate treatment is to protect and preserve human remains in situ, if possible.

c. The Army agency official has five working days following notification of the discovery to consult with the SHPO and, as applicable, Indian tribes or NHOs to determine if the discovered property is a historic property eligible for listing in the NRHP. The Army may also assume the newly discovered property to be eligible for the NRHP for the purposes of Section 106 pursuant to 36 CFR 800.13(c).

d. If the Army agency official determines, in coordination with the SHPO and, as applicable, Indian tribes or NHOs that the discovered property is not a historic property eligible for listing in the NRHP, all management actions and construction activities may immediately resume within the area of the discovery and the buffer zone upon such determination.

e. If the Army agency official determines that the discovery is a historic property, the Army will consult with the SHPO and (as appropriate) Indian tribes or NHOs regarding appropriate treatment measures to avoid, minimize, or mitigate adverse effects that may occur once the management actions are resumed. The SHPO, and Indian Tribes or NHOs will have five working days to review and comment on the proposed treatment measures. The Army agency official shall take all comments received into account in finalizing and implementing the treatment plan. Treatment measures may include, but are not limited to archeological evaluation of the site, exploration of potential alternatives to avoid the site; and preparation and implementation of a limited data recovery plan to retrieve important information from the site.

4.2.2 Discovery of Native American and Native Hawaiian Human Remains and Funerary Objects

The Army acknowledges that the respectful treatment of Native American and Native Hawaiian human remains and funerary objects is a paramount concern and that an appropriate treatment is to protect and preserve Native American or Native Hawaiian human remains and funerary objects in situ, if possible.

If human remains and/or funerary objects that may be Native American or Native Hawaiian in origin are discovered during the conduct of management actions under this Program Comment, the Army agency official will immediately apply the provisions of the Native American Graves Protection and Repatriation Act (NAGPRA), implement NAGPRA compliance procedures, and will notify the relevant SHPO, Indian tribe(s) or NHO(s), and the Army FPO of the discovery within 24 hours.

5.0 Annual Reporting and Annual Meeting

The Army will monitor and report on its implementation of the treatment measures for the Program Comment for Army Inter-War Era Housing.

5.1 Annual Report

On or before January 31st of each year from 2021 to 2025, the Army will provide an Annual Report to the ACHP and, at least two weeks prior to an Annual Meeting, post the Report on its Inter-War Era Housing Program Comment website. The Annual Report will provide the status of the following treatment measures:

a. Inter-War Era Historic Context.

b. Design Guidelines and Building Materials Catalog.

c. Design Guidelines Professional Assistance and Monitoring Activities.

d. Army FPO NHPA Policy Memorandum.

e. Army's Inter-War Era Housing Program Comment website Activities.

f. Public Educational/Social Media Activities.

g. Imitative Substitute Building Materials Lifecycle Data reporting special provisions:

i. Imitative Substitute Building Materials Lifecycle data will be reported annually from 2021 to and including 2025.

ii. Following 2025, the lifecycle data will be reported at five-year intervals, in 2030, 2035, 2040, 2045, 2050, and 2055, for a total of 35 years.

iii. The necessity for continuation of lifecycle data collection and reporting will be re-evaluated by the Army in consultation with the ACHP at each five-year reporting interval from 2030-2055 (see Section 6).

h. Following 2025, the summary of each demolition decision, and any known future demolition proposals, will be reported to the ACHP at five-year intervals, in 2030, 2035, 2040, 2045, 2050, and 2055, for a total of 35 years. The necessity for continuation of demolition reporting will be re-evaluated by the Army in consultation with the ACHP at each five-year reporting interval from 2030-2055

The Army's Annual Report will also include a summary review of decisions made for housing demolition; any known future demolition proposals; significant issues or misunderstandings that may have arisen in the course of applying the Program Comment, how those were addressed, and how they may be avoided in the future; and an assessment of the overall effectiveness of the Program Comment in meeting its intent and purpose.

5.2 Annual Meeting

The Army will conduct an Annual Meeting with the ACHP and invite participation from the National Trust for Historic Preservation, National Conference of State Historic Preservation Officers, and the National Association of Tribal Historic Preservation Officers. The Army and the ACHP may also invite other parties to the Annual Meeting, as each deems appropriate. The purpose of the Annual Meeting is to review and discuss the status of the Army's implementation of the Program Comment treatment measures, the Army's assessment of the effectiveness of the Program Comment in meeting its stated intent, and how it has addressed issues or misunderstandings that may have arisen in the course of implementing the Program Comment. The Army intends to conduct the annual meeting in February of each year from 2021 to and including 2025.

The Army will post its Annual Report on the Army's Inter-War Era Housing Program Comment website at least two weeks prior to each Annual Meeting and will notify the ACHP and any ACHP identified participants. The Army will specifically include discussion pertaining to Design Guideline and Building Materials Catalog implementation, Major Decisions regarding demolition, any anticipated future demolitions, and imitative substitute building materials lifecycle data tracking. The Annual Meeting will also include discussion of any significant issues or misunderstandings that have arisen in the course of applying the Program Comment and how those problems were addressed and may be avoided in the future. The Annual Meeting will also provide an opportunity for attendees to provide their views assessing the overall effectiveness of the Program Comment in meeting its intent and purpose. The Army will document the occurrence of the meeting and participants, discussion topics agenda, and will document its response to recommendations by the ACHP as an outcome of the Annual Meeting. Annual Meetings may take place in-person, by phone, by videoconferencing, or any combination of such methods.

6.0 Schedule for Treatment Measures

The Army may immediately carry out all management actions in accordance with this Program Comment, and prior to the completion of the treatment measures specified in Sections 3.2.1, 3.2.3, and 3.2.4. The Army will stop carrying out management actions under this Program Comment when any of the schedules provided below (a. through g.) are not met and will not resume until such treatment measure is finished, unless the schedule has been adjusted in accordance with Section 8. The schedule for the Army's submission of materials associated with treatment measures to the ACHP is as follows:

a. Army FPO NHPA Policy Memorandum—within 45 days from the date of issuance of the Program Comment.

b. Design Guidelines and Building Materials Catalog for Army Inter-War Era Historic Housing—complete on date of issuance of the Program Comment.

c. Design Guidelines Professional Assistance and Monitoring Activities—ongoing from the date of issuance of the Program Comment through 2025, and reported in each Annual Report.

d. Inter-War Era Housing Historic Context Report—end of calendar year 2021.

e. Army's Inter-War Era Housing Program Comment website activities—ongoing from the date of issuance of the Program Comment through 2025, and reported in each Annual Report.

f. Public Educational/Social Media activities—website active from the date of issuance of the Program Comment through 2055, and reported in each Annual Report. The Army will develop and distribute monthly social media content using the information developed for the Program Comment for Inter-War Era housing and general information pertaining to Army historic preservation activities and other Army historic property types through 2025.

g. Imitative Substitute Building Materials Lifecycle Data Collection and Reporting—in each Annual Report from 2021-2025. These data will then be independently reported to the ACHP at five-year intervals from 2030-2055. Imitative substitute building materials lifecycle data collection and reporting is contingent on the duration of the Program Comment, and is subject to re-evaluated by the Army in consultation with the ACHP at each five-year reporting interval from 2030-2055. If the ACHP and the Army determine after 2030 that further reporting is not necessary, the requirement for such data collection and reporting will be waived in writing by the Chairman of the ACHP in accordance with Section 8.

7.0 Effect and Duration of the Program Comment

By adhering to the terms of this Program Comment, the Army meets its responsibilities for compliance with Section 106 of the NHPA for management actions associated with Inter-War Era housing, associated buildings and structures, and landscape features. The Program Comment will remain in effect for 35 years from the date of issuance unless, prior to that time, the Army determines that such comments are no longer needed and notifies the ACHP in writing, or the ACHP withdraws the Program Comment in accordance with 36 CFR 800.14(e)(6). Following such withdrawal, the Army will be required to comply with Section 106 through the process in 36 CFR 800.3-800.7, or an applicable program alternative under 36 CFR 800.14, for each individual undertaking formerly covered by this Program Comment. During the first six months of the 34th year after issuance of this Program Comment, the Army and the ACHP will meet to determine whether to consider an extension to its term.

8.0 Program Comment Amendment and Technical Adjustment

The ACHP membership may formally amend this Program Comment after consulting with the Army, and other parties as it deems appropriate. However:

a. The Chairman of the ACHP, after notice to the rest of the ACHP membership and the Army, may amend this Program Comment to extend its duration, and may waive further building materials lifecycle data collection and reporting requirements.

b. The Executive Director of the ACHP, after notice to the ACHP membership and the Army may amend this Program Comment to: Add or remove materials from the Building Materials Catalog (after consulting with subject matter experts and ACHP members as the Executive Director deems appropriate); adjust due dates associated with annual reporting in Section 5, adjust due dates for treatment measures in Section 6; and to correct typographical errors.

The ACHP will notify the Army in writing regarding all amendments per 8.0.b., within 30 days of their issuance. The ACHP will publish notice in the Federal Register regarding all other amendments within 30 days after their issuance.

9.0 Appendices

Appendix A Design Guidelines for Army Inter-War Era Historic Housing [see https://www.denix.osd.mil/army-pchh/home/].

Appendix B Building Materials Catalog for Army Inter-War Era Historic Housing [see https://www.denix.osd.mil/army-pchh/home/].

Endnotes

1. A. National Historic Context for Department of Defense Installations, 1790-1940, Volumes I-4. DoD Legacy Resource Management Program Project 92-0075 (1995).

B. A Study of United States Army Family Housing Standardized Plans, Volumes 1-5., Grashof, B. (1986).

C. Context Study of the United States Quartermaster General Standardized Plans 1866-1942. Army Corps of Engineers, Seattle District (1997).

D. Historic Context Study of Historic Military Family Housing in Hawaii. DoD Legacy Resource Management Program Project 115 (2003).

E. Design Guidelines for Department of Defense Historic Buildings and Districts. DoD Legacy Resource Management Program Project 07-382 (2008).

Authority: 36 CFR 800.14(e)

Dated: October 7, 2020.
Javier Marqués,
General Counsel.

[FR Doc. 2020-22572 Filed 10-9-20; 8:45 am]

BILLING CODE 4310-K6-P